DEPARTMENT OF AGRICULTURE

National Agricultural Statistics Service

Notice of Opportunity To Submit Content Request for the 2010 Census of Aquaculture

AGENCY: National Agricultural Statistics Service.

ACTION: Notice and request for stakeholder input.

SUMMARY: The National Agricultural Statistics Service (NASS) is currently accepting stakeholder feedback in the form of content requests for the 2010 Census of Aquaculture. This census is required by law under the “Census of Agriculture Act of 1997,” Public Law No. 105-113 (7 U.S.C. 2204g).

DATES: Comments on this notice must be received by September 25, 2009 to be assured consideration.

ADDRESSES: Requests must address items listed in comments section below.

Please submit requests online at: http://www.agcensus.usda.gov/follow-ons or via mail to: USDA-NASS, Census Content Team, 1400 Independence Ave., SW., Rm. 5340, MS 2021, Washington, DC 20250.

If you have any questions send an e-mail to aginputcounts@nass.usda.gov or call 1-800-727-9540.

FOR FURTHER INFORMATION OR COMMENTS CONTACT: Joseph T. Reilly, Associate Administrator, National Agricultural Statistics Service, U.S. Department of Agriculture, (202) 720-4333.

SUPPLEMENTARY INFORMATION: The results of the 2005 Census of Aquaculture were released in October 2006. For more information, visit on-line at: http://www.agcensus.usda.gov/Publications/2002/Aquaculture. The U.S. Department of Agriculture's National Agricultural Statistics Service is in the process of planning the content of the 2010 Census of Aquaculture. We are seeking input on ways to improve the Census of Aquaculture. Recommendations or any other ideas concerning the census would be greatly appreciated. The 2005 Census of Aquaculture questionnaire may be viewed on-line at: http://www.agcensus.usda.gov/Publications/2002/Aquaculture/aquacen2005_appendixb.pdf.

The following justification categories must be addressed when proposing a new line of questioning for the 2010 Census of Aquaculture:

1. What data are needed?

2. Why are the data needed?

3. At what geographic level are the data needed? (U.S., State, County, other)

4. Who will use these data?

5. What decisions will be influenced with these data?

6. What surveys have used the proposed question before; what testing has been done on the question; and what is known about its reliability and validity.

7. Draft of the recommended question.

All responses to this notice will become a matter of public record and be summarized and considered by NASS in preparing the 2010 Census of Aquaculture questionnaire for OMB approval.

Signed at Washington, DC, July 22, 2009.
Joseph T. Reilly,
Associate Administrator.

[FR Doc. E9-19347 Filed 8-11-09; 8:45 am]

BILLING CODE 3410-20-P